DEPARTMENT OF HOMELAND SECURITY

Coast Guard

33 CFR Part 100

[Docket No. USCG-2021-0879]

Special Local Regulations; Charleston Parade of Boats, Charleston, SC

AGENCY: Coast Guard, DHS.

ACTION: Notification of enforcement of regulation.

SUMMARY: The Coast Guard will enforce the special local regulation for the Charleston Parade of Boats on December 11, 2021. This action is necessary to ensure safety of life on navigable waters of the United States during the Charleston Parade of Boats. During the enforcement period, no person or vessel may enter, transit through, anchor in, or remain within the designated area unless authorized by the Captain of the Port Charleston (COTP) or a designated representative.

DATES: The regulations in 33 CFR 100.704, Table 1 to § 100.704, Item No. 10, will be enforced from 4:00 p.m. until 8:30 p.m. on December 11, 2021.

FOR FURTHER INFORMATION CONTACT: If you have questions about this notice of enforcement, call or email LCDR Chad Ray, Sector Charleston Office of Waterways Management, Coast Guard; telephone (843) 740-3184, email Chad.L.Ray@uscg.mil.

SUPPLEMENTARY INFORMATION: The Coast Guard will enforce the special local regulation in 33 CFR 100.704, Item No. 10, for the Charleston Parade of Boats from 4:00 p.m. through 8:30 p.m. on December 11, 2021. This action is being taken to provide for the safety of life on navigable waterways during this event. Our regulation for marine events within the Seventh Coast Guard District § 100.704, Item No. 10, specifies the location of the regulated area for the Charleston Parade of Boats, which encompasses a portion of the waterways during the parade transit from Charleston Harbor Anchorage A through Shutes Folly, Bennis Reach, Horse Reach, Hog Island Reach, Town Creek Lower Reach, Ashley River, and finishing at City Marina. During the enforcement period, if you are the operator of a vessel in the regulated area you must comply with directions from the Patrol Commander or any Official Patrol displaying a Coast Guard ensign.

In addition to this notice of enforcement in the Federal Register, the Coast Guard plans to provide notification of this enforcement period via the Local Notice to Mariners, Broadcast Notice to Mariners, and on-scene designated representatives.

Dated: November 23, 2021.
J.D. Cole,
Captain, U.S. Coast Guard, Captain of the Port Charleston.

[FR Doc. 2021-26202 Filed 12-1-21; 8:45 am]

BILLING CODE 9110-04-P